DEPARTMENT OF AGRICULTURE

Animal and Plant Health Inspection Service

[Docket No. APHIS-2017-0047]

Notice of Request for Approval of an Information Collection; Citrus Black Spot

AGENCY: Animal and Plant Health Inspection Service, USDA.

ACTION: New information collection; comment request.

SUMMARY: In accordance with the Paperwork Reduction Act of 1995, this notice announces the Animal and Plant Health Inspection Service's intention to request approval of an information collection associated with the requirements for the interstate movement of regulated articles to prevent the spread of citrus black spot.

DATES: We will consider all comments that we receive on or before October 23, 2017.

ADDRESSES: You may submit comments by either of the following methods:

• Federal eRulemaking Portal: Go to http://www.regulations.gov/#!docketDetail;D=APHIS-2017-0047.

• Postal Mail/Commercial Delivery: Send your comment to Docket No. APHIS-2017-0047, Regulatory Analysis and Development, PPD, APHIS, Station 3A-03.8, 4700 River Road, Unit 118, Riverdale, MD 20737-1238.

Supporting documents and any comments we receive on this docket may be viewed at http://www.regulations.gov/#!docketDetail;D=APHIS-2017-0047 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on citrus black spot, contact Dr. Robert Baca, Assistant Director, Permitting and Compliance Coordination, Compliance and Environmental Coordination Branch, PPQ, APHIS, 4700 River Road, Unit 150, Riverdale, MD 20737; (301) 851-2292. For copies of more detailed information on the information collection, contact Ms. Kimberly Hardy, APHIS' Information Collection Coordinator, at (301) 851-2483.

SUPPLEMENTARY INFORMATION:

Title: Citrus Black Spot.

OMB Control Number: 0579-XXXX.

Type of Request: Approval of a new information collection.

Abstract: As authorized by the Plant Protection Act (PPA, 7 U.S.C. 7701 et seq.), the Secretary of Agriculture, either independently or in cooperation with States, may carry out operations or measures to detect, eradicate, suppress, control, prevent, or retard the spread of plant pests that are new to or not widely distributed within the United States. This authority has been delegated to the Animal and Plant Health Inspection Service (APHIS) of the U.S. Department of Agriculture, which administers regulations to implement the PPA. Under the PPA, the Secretary may also issue regulations requiring plants and plant products moved in interstate commerce to be subject to remedial measures determined necessary to prevent the spread of the pest.

APHIS issued Federal Orders for citrus black spot (CBS, Guignardia citricarpa) and established requirements for the movement of regulated articles such as citrus (Citrus spp.) fruit, all citrus plants and plant parts, including leaves for consumption, and any other products, articles, or means of conveyance that an inspector determines presents a risk of spreading CBS.

CBS, a fungal disease marked by dark, speckled spots or blotches on the rinds of fruit, is an economically significant citrus disease. It causes early fruit drop, reduces crop yield, and renders the highly blemished fruit unmarketable. While all commercial citrus cultivars are susceptible to CBS, the most vulnerable are lemons and late-maturing varieties of oranges like Valencia. These varieties are widely grown commercially in Florida and in other citrus-producing areas of the United States. The greatest risk of transmission of CBS is associated with infected nursery stock and decomposing citrus leaves that have fallen in groves. There is also a risk of disease transmission if infected leaves, plant debris, or fruit are not adequately covered or secured during transport.

To safeguard U.S. agriculture, APHIS requires the respondents listed below to complete information collection activities, such as compliance agreements, certificates, limited permits, individually numbered trip tickets, disposal site approvals, and inspections.

We are asking the Office of Management and Budget to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.26 hours per response.

Respondents: U.S. producers, growers, packers, inspectors, individuals, and State officials.

Estimated Annual Number of Respondents: 265.

Estimated Annual Number of Responses per Respondent: 94.

Estimated Annual Number of Responses: 25,038.

Estimated Total Annual Burden on Respondents: 6,712 hours. (Due to averaging, the total annual burden hours may not equal the product of the annual number of responses multiplied by the reporting burden per response.)

All responses to this notice will be summarized and included in the request for OMB approval. All comments will also become a matter of public record.

Done in Washington, DC, this 17th day of August 2017.
Michael C. Gregoire,
Acting Administrator, Animal and Plant Health Inspection Service.

[FR Doc. 2017-17877 Filed 8-23-17; 8:45 am]

BILLING CODE 3410-34-P